DEPARTMENT OF COMMERCE

International Trade Administration

[A-122-853; A-570-937]

Citric Acid and Certain Citrate Salts From Canada and the People's Republic of China: Final Results of Expedited First Sunset Reviews of the Antidumping Duty Orders

AGENCY: Enforcement and Compliance, International Trade Administration, Department of Commerce.

SUMMARY: As a result of these sunset reviews, the Department of Commerce (the Department) finds that revocation of the antidumping duty orders on citric acid and certain citrate salts (citric acid) from Canada and the People's Republic of China (PRC) would be likely to lead to continuation or recurrence of dumping. The magnitude of the dumping margins likely to prevail is indicated in the “Final Results of Sunset Reviews” section of this notice.

DATES: Effective Date: August 6, 2014.

FOR FURTHER INFORMATION CONTACT: Terre Keaton Stefanova or Katherine Johnson, AD/CVD Operations, Office II, Enforcement and Compliance, International Trade Administration, U.S. Department of Commerce, 14th Street & Constitution Avenue NW., Washington, DC 20230; telephone: (202) 482-1280 or (202) 482-4929, respectively.

SUPPLEMENTARY INFORMATION:

Background

On May 29, 2009, the Department published in the Federal Register the antidumping duty orders on citric acid from Canada and the PRC.¹ On April 1, 2014, the Department published the notice of initiation of the first sunset reviews of the antidumping duty orders on citric acid from Canada and the PRC pursuant to section 751(c) of the Tariff Act of 1930, as amended (“the Act”).² On April 14, 2014, the Department received Notices of Intent to Participate in these reviews from the following domestic producers of citric acid: Archer Daniels Midland Company, Cargill, Incorporated, and Tate & Lyle Ingredients Americas LLC. (collectively, “the petitioners”), within the deadline specified in 19 CFR 351.218(d)(1)(i). The petitioners claimed interested party status under section 771(9)(C) of the Act, as manufacturers of a domestic like product in the United States. On May 1, 2014, we received a complete substantive response for each review from the petitioners within the 30-day deadline specified in 19 CFR 351.218(d)(3)(i).³ We received no substantive responses from any respondent interested parties. As a result, pursuant to section 751(c)(3)(B) of the Act and 19 CFR 351.218(e)(1)(ii)(C)(2), the Department conducted expedited (120-day) sunset reviews of these orders.

¹ See Citric Acid and Certain Citrate Salts from Canada and the People's Republic of China: Antidumping Duty Orders, 74 FR 25703 (May 29, 2009).

² See Initiation of Five-Year (“Sunset”) Review, 79 FR18279 (April 1, 2014).

³ See the May 1, 2014, responses from the petitioners regarding the Five-Year (“Sunset”) Review of Antidumping Duty Order on Citric Acid and Certain Citrate Salts from Canada: Domestic Industry's Substantive Response and the Five-Year (“Sunset”) Review of Antidumping Duty Order on Citric Acid and Certain Citrate Salts from the People's Republic of China: Domestic Industry's Substantive Response.

Scope of the Orders

The merchandise covered by these orders is citric acid and certain citrate salts. The product is currently classified in the Harmonized Tariff Schedule of the United States (HTSUS) at item numbers 2918.14.0000 and 2918.15.1000, 2918.15.5000 and 3824.90.9290. Although the HTSUS numbers are provided for convenience and for customs purposes, the written description of the merchandise is dispositive. A complete description of the scope of these Orders is contained in the Decision Memo.⁴

⁴ Memorandum to Paul Piquado, Assistant Secretary for Enforcement and Compliance, from Christian Marsh, Deputy Assistant Secretary for Antidumping and Countervailing Duty Operations, titled “Issues and Decision Memorandum for the Final Results of the Expedited First Sunset Reviews of the Antidumping Duty Orders on Citric Acid and Certain Citrate Salts from Canada and the People's Republic of China,” dated concurrently with and adopted by this notice (Decision Memo).

Analysis of Comments Received

A complete discussion of all issues raised in these reviews is provided in the accompanying Decision Memo. The issues discussed in the Decision Memo include the likelihood of continuation or recurrence of dumping and the magnitude of the margins likely to prevail if these orders were to be revoked. The Decision Memo is a public document and is on file electronically via Enforcement and Compliance's Antidumping and Countervailing Duty Centralized Electronic Service System (IA ACCESS). IA ACCESS is available to registered users at http://iaaccess.trade.gov, and it is available to all parties in the Central Records Unit, room 7046 of the main Department of Commerce building. In addition, a complete version of the Decision Memo can be accessed directly at http://enforcement.trade.gov/frn/index.html. The signed and electronic versions of the Decision Memo are identical in content.

Final Results of Sunset Reviews

We determine that revocation of the antidumping duty orders on citric acid from Canada and the PRC would be likely to lead to continuation or recurrence of dumping at the following weighted-average percentage margins:

⁵ The cash deposit rate for all PRC companies named below, except for Yixing Union Biochemical Co., Ltd./Yixing Union Biochemical Co., Ltd., were adjusted to account for export subsidies.

Exporter/producer | Percent margin
Canada:
Jungbunzlauer Canada Inc | 23.21
All Others | 23.21
PRC: ⁵
TTCA Co., Ltd. (a.k.a. Shandong TTCA Biochemistry Co., Ltd.)/TTCA Co., Ltd. (a.k.a. Shandong TTCA Biochemistry Co., Ltd.) | 129.08
Yixing Union Biochemical Co., Ltd./Yixing Union Biochemical Co., Ltd | 94.61
Anhui BBCA Biochemical Co., Ltd./Anhui BBCA Biochemical Co., Ltd | 111.85
Anhui BBCA Biochemical Co., Ltd./China BBCA Maanshan Biochemical Corp | 111.85
A.H.A. International Co., Ltd./Yixing Union Biochemical Co., Ltd | 111.85
A.H.A. International Co., Ltd./Nantong Feiyu Fine Chemical Co., Ltd | 111.85
High Hope International Group Jiangsu Native Produce IMP & EXP Co., Ltd./Yixing Union Biochemical Co., Ltd | 111.85
Huangshi Xinghua Biochemical Co., Ltd./Huangshi Xinghua Biochemical Co., Ltd | 111.85
Lianyungang JF International Trade Co., Ltd./TTCA Co., Ltd. (a.k.a Shandong TTCA Biochemistry Co., Ltd.) | 111.85
Laiwu Taihe Biochemistry Co., Ltd./Laiwu Taihe Biochemistry Co., Ltd | 111.85
Lianyungang Shuren Scientific Creation Import & Export Co., Ltd./Lianyungang Great Chemical Industry Co., Ltd | 111.85
Penglai Marine Bio-Tech Co. Ltd./Penglai Marine Bio-Tech Co. Ltd | 111.85
RZBC Imp & Exp. Co., Ltd./RZBC Co., Ltd/RZBC (Juxian) Co.,/RZBC Co., Ltd | 111.85
RZBC Imp & Exp. Co., Ltd./RZBC Co., Ltd./RZBC (Juxian) Co., Ltd./RZBC (Juxian) Co., Ltd | 111.85
RZBC Imp & Exp. Co., Ltd./RZBC Co., Ltd./RZBC (Juxian) Co., Ltd./Lianyungang Great Chemical Industry Co., Ltd | 111.85
Shihezi City Changyun Biochemical Co., Ltd./Shihezi City Changyun Biochemical Co., Ltd | 111.85
Weifang Ensign Industry Co., Ltd./Weifang Ensign Industry Co., Ltd | 111.85
PRC-Wide Entity | 156.87

Administrative Protective Order

This notice also serves as the only reminder to parties subject to an administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing these results and notice in accordance with sections 751(c), 752(c), and 777(i)(1) of the Act.

Dated: July 30, 2014.
Paul Piquado,
Assistant Secretary for Enforcement and Compliance.

[FR Doc. 2014-18588 Filed 8-5-14; 8:45 am]

BILLING CODE 3510-DS-P